DEPARTMENT OF THE INTERIOR

National Park Service

[NPS-WASO-NAGPRA-NPS0035945; PPWOCRADN0-PCU00RP14.R50000]

Notice of Inventory Completion: Department of the Interior, National Park Service, Fort Vancouver National Historic Site, Vancouver, WA

AGENCY: National Park Service, Interior.

ACTION: Notice.

SUMMARY: In accordance with the Native American Graves Protection and Repatriation Act (NAGPRA), the U.S. Department of the Interior, National Park Service, Fort Vancouver National Historic Site (FOVA) has completed an inventory of human remains and associated funerary objects and has determined that there is a cultural affiliation between the human remains and associated funerary objects and Indian Tribes or Native Hawaiian organizations in this notice. The human remains and associated funerary objects were removed from Walla Walla County, WA.

DATES: Repatriation of the human remains and associated funerary objects in this notice may occur on or after July 3, 2023.

ADDRESSES: Tracy Fortmann, Superintendent, Fort Vancouver National Historic Site, 800 Hathaway Road, Building 722, telephone (360) 816-6205, email Tracy_Fortmann@nps.gov.

SUPPLEMENTARY INFORMATION: This notice is published as part of the National Park Service's administrative responsibilities under NAGPRA. The determinations in this notice are the sole responsibility of the Superintendent, FOVA. Additional information on the determinations in this notice, including the results of consultation, can be found in the inventory or related records held by FOVA.

Description

Human remains representing, at minimum, one individual were removed from Walla Walla County, WA, by the Smithsonian Institution's River Basin Surveys in 1947, during the construction of the nearby McNary Dam and Lake Wallula Reservoir. National Park Service archeologists participated in this project. The human remains were removed from the site of Walúula, the largest village of the Walúulapam Sahaptin group and were housed at the Burke Museum until their transfer to FOVA in 1995. The 56 associated funerary objects are two nails, four bone beads, nine dentalium shells, one clothing rivet, two buttons, two tobacco pipe stems, two spurs, two shoe tacks, one bullet, six bottle fragments, one safety pin, one thimble fragment, seven ceramic tablewares, two lamp base glass fragments, one yellow metal loop eyelet, one yellow metal strap fragment, two yellow metal fragments, four lithic debitage, two uniface lithic flakes, one biface tool, one projectile point, one Intermountain or Shoshone pottery, and one bag of glass beads.

Cultural Affiliation

The human remains and associated funerary objects in this notice are connected to one or more identifiable earlier groups, tribes, peoples, or cultures. There is a relationship of shared group identity between the identifiable earlier groups, tribes, peoples, or cultures and one or more Indian Tribes or Native Hawaiian organizations. The following types of information were used to reasonably trace the relationship: anthropological information, archeological information, historical information, oral tradition, and expert opinion.

Determinations

Pursuant to NAGPRA and its implementing regulations, and after consultation with the appropriate Indian Tribes and Native Hawaiian organizations, FOVA has determined that:

• The human remains described in this notice represent the physical remains of one individual of Native American ancestry.

• The 56 objects described in this notice are reasonably believed to have been placed with or near individual human remains at the time of death or later as part of the death rite or ceremony.

• There is a relationship of shared group identity that can be reasonably traced between the human remains and associated funerary objects described in this notice and the Confederated Tribes and Bands of the Yakama Nation; Confederated Tribes of the Umatilla Indian Reservation; and the Nez Perce Tribe.

Requests for Repatriation

Written requests for repatriation of the human remains and associated funerary objects in this notice must be sent to the Responsible Official identified in ADDRESSES. Requests for repatriation may be submitted by:

1. Any one or more of the Indian Tribes identified in this notice and, if joined to a request from one or more of the Indian Tribes, the Wanapum Band of Priest Rapids, a non-federally recognized Indian group.

2. Any lineal descendant, Indian Tribe, or Native Hawaiian organization not identified in this notice who shows, by a preponderance of the evidence, that the requestor is a lineal descendant or a culturally affiliated Indian Tribe or Native Hawaiian organization.

Repatriation of the human remains and associated funerary objects in this notice to a requestor may occur on or after July 3, 2023. If competing requests for repatriation are received, FOVA must determine the most appropriate requestor prior to repatriation. Requests for joint repatriation of the human remains and associated funerary objects are considered a single request and not competing requests. FOVA is responsible for sending a copy of this notice to the Indian Tribes and Native Hawaiian organizations identified in this notice.

Authority: Native American Graves Protection and Repatriation Act, 25 U.S.C. 3003, and the implementing regulations, 43 CFR 10.9, 10.10, and 10.14.

Dated: May 24, 2023.
Melanie O'Brien,
Manager, National NAGPRA Program.

[FR Doc. 2023-11696 Filed 5-31-23; 8:45 am]

BILLING CODE 4312-52-P